DEPARTMENT OF THE INTERIOR

National Park Service

Notice of Inventory Completion for Native American Human Remains and Associated Funerary Objects in the Possession of the U.S. Department of Defense, National Museum of Health and Medicine, Armed Forces Institute of Pathology, Washington, DC

AGENCY: National Park Service, Interior.

ACTION: Notice.

Notice is hereby given in accordance with provisions of the Native American Graves Protection and Repatriation Act (NAGPRA), 43 CFR 10.9, of the completion of an inventory of human remains and associated funerary objects in the possession of the U.S. Department of Defense, National Museum of Health and Medicine, Armed Forces Institute of Pathology (formerly the Army Medical Museum), Washington, DC.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by National Museum of Health and Medicine, Armed Forces Institute of Pathology professional staff in consultation with representatives of the Seneca Nation of New York, Seneca-Cayuga Tribe of Oklahoma, and Tonowanda Band of Seneca Indians of New York.

Prior to 1915, human remains representing one individual were excavated from an Indian mission cemetery in Buffalo, Erie County, NY, by an unknown individual. In 1915, the National Museum of Health and Medicine, Armed Forces Institute of Pathology purchased the remains from the Charles H. Ward Company of Rochester, NY. No known individual was identified. No associated funerary objects are present.

Accession records from the National Museum of Health and Medicine, Armed Forces Institute of Pathology indicate that the remains were identified by the Charles H. Ward Company as an adult female Seneca Indian. Historical information indicates that the Buffalo Creek Mission Cemetery, from which the remains were obtained, was located in Erie County, NY. Historical records from the Indian Claims Commission places the Seneca in an area that includes Erie County, NY.

Prior to 1914, human remains representing one individual were collected from the farm of George Marsh approximately 5 miles from Canandaigua, Ontario County, NY, by George G. Heye of the Heye Foundation. In 1914, Mr. Heye donated the remains to the Smithsonian Institution. In 1915, the remains were transferred to the National Museum of Heath and Medicine, Armed Forces Institute of Pathology. No known individual was identified. No associated funerary objects are present.

Based on the geographic location where these human remains were found, this individual has been identified as Native American. Archeological information indicates that the Marsh farm site was an eastern Seneca village site dating from 1650-1670. Biological information indicates that these human remains are most likely of an adult individual of unknown sex. Based on geographical evidence and on archeological expert opinion, these human remains are most likely culturally affiliated with the Seneca Nation of New York, Seneca-Cayuga Tribe of Oklahoma, and Tonowanda Band of Seneca Indians of New York.

Based on the above-mentioned information, officials of the National Museum of Health and Medicine, Armed Forces Institute of Pathology have determined that, pursuant to 43 CFR 10.2 (d)(1), the human remains listed above represent the physical remains of two individuals of Native American ancestry. Officials of the National Museum of Health and Medicine, Armed Forces Institute of Pathology also have determined that, pursuant to 43 CFR 10.2 (e), there is a relationship of shared group identity that can be reasonably traced between these Native American human remains and the Seneca Nation of New York, Seneca-Cayuga Tribe of Oklahoma, and Tonowanda Band of Seneca Indians of New York.

This notice has been sent to officials of the Seneca Nation of New York, Seneca-Cayuga Tribe of Oklahoma, and Tonowanda Band of Seneca Indians of New York. Representatives of any other Indian tribe that believes itself to be culturally affiliated with these human remains should contact Lenore Barbian, Ph.D., Assistant Curator, Anatomical Collections, National Museum of Health and Medicine, Armed Forces Institute of Pathology, Walter Reed Army Medical Center, Building 54, Washington, DC 20306-6000, telephone (202) 782-2203, before June 4, 2001. Repatriation of the human remains and associated funerary objects to the Seneca Nation of New York, Seneca-Cayuga Tribe of Oklahoma, and Tonowanda Band of Seneca Indians of New York may begin after that date if no additional claimants come forward.

Dated: April 11, 2001.
John Robbins,
Assistant Director, Cultural Resources Stewardship and Partnerships.

[FR Doc. 01-11137 Filed 5-2-01; 8:45 am]

BILLING CODE 4310-70-F